NUCLEAR REGULATORY COMMISSION

[Docket Nos. 50-266 and 50-301]

Nuclear Management Company, LLC; Notice of Issuance of Amendment to Facility Operating License

The U.S. Nuclear Regulatory Commission (Commission) has issued Amendment Nos. 201 and 206 to Facility Operating License Nos. DPR-24 and DPR-27 issued to the Nuclear Management Company, LLC (the licensee), which revised the Operating Licenses and Technical Specifications for the Point Beach Nuclear Plant, Units 1 and 2, respectively, located in Manitowoc County, Wisconsin. The amendments are effective as of the date of issuance and shall be implemented by December 31, 2001. The implementation of the amendments include two license conditions that are being added to Appendix C of the Operating Licenses.

The amendments replace, in their entirety, the current TSs (CTS) with a set of improved TSs (ITS) based on (1) NUREG-1431, Revision 1, “Standard Technical Specifications, Westinghouse Plants,” dated April 1995, including subsequent approved changes to the standard TSs, (2) guidance provided in the Commission's “Final Policy Statement on Technical Specifications Improvements for Nuclear Power Reactors,” published on July 22, 1993 (58 FR 39132), and (3) 10 CFR 50.36, “Technical Specifications,” as amended July 19, 1995 (60 FR 36953). In addition, the amendments added two license conditions to Appendix C of the Operating Licenses that (1) require the relocation of certain CTS requirements into licensee-controlled documents, and (2) provide the schedule for the first performance of surveillance requirements that are new or revised in the amendments.

In addition to the amendments discussed above, Amendment Nos. 201 and 206 also include the implementation of a Core Operating Limits Report (COLR), which the licensee requested to be issued concurrent with the ITS amendment. This amendment relocates cycle-specific reactor parameter limits from the TSs to a licensee-controlled document called a COLR.

Amendment Nos. 201 and 206 also include the implementation of a Pressure Temperature Limits Report (PTLR), which the licensee requested to be issued concurrent with the ITS amendment. This amendment relocates pressure-temperature curves to a licensee-controlled document called a PTLR.

The applications for amendment comply with the standards and requirements of the Atomic Energy Act of 1954, as amended (the Act), and the Commission's rules and regulations. The Commission has made appropriate findings as required by the Act and the Commission's rules and regulations in 10 CFR Chapter I, which are set forth in the license amendments.

Notice of Consideration of Issuance of Amendment to Facility Operating License and Opportunity for a Hearing in connection with the action to convert to ITS was published in the Federal Register on June 22, 2001 (66 FR 33581). Notice of Consideration of Issuance of Amendment to Facility Operating License and Opportunity for a Hearing in connection with the action to implement a COLR was published in the Federal Register on August 9, 2000 (65 FR 48740). Notice of Consideration of Issuance of Amendment to Facility Operating License and Opportunity for a Hearing in connection with the action to implement a PTLR was published in the Federal Register on August 23, 2000 (65 FR 51364). No request for a hearing or petition for leave to intervene was filed following these notices.

The Commission has prepared an Environmental Assessment related to the action and has determined not to prepare an environmental impact statement. Based upon the environmental assessment, the Commission has concluded that the issuance of the amendment will not have a significant effect on the quality of the human environment. The Environmental Assessment was published in the Federal Register on July 23, 2001 (66 FR 38329).

For further details with respect to the action see (1) the application for amendment dated November 15, 1999, as supplemented March 15, June 15, June 19, July 28, August 17, September 14, October 19 and December 21, 2000, February 6, February 23, March 19, May 11 and June 13, and July 27, 2001, (2) the application for amendment dated March 2, 2000, as supplemented August 14, 2000, (3) the application for amendment dated March 10, 2000, as supplemented November 20, 2000, and April 10, 2001, (4) Amendment No. 201 to License No. DPR-24 and Amendment No. 206 to License No. DPR-27, (5) the Commission's related Safety Evaluation, and (6) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index.html. Persons who do not have access to ADAMS or who encounter problems in accessing the documents located in ADAMS should contact the NRC Public Document Room Reference staff by telephone at 1-800-397-4209, 301-415-4737 or by email to pdr@nrc.gov.

Dated at Rockville, Maryland, this 8th day of August 2001.
For the Nuclear Regulatory Commission.
Beth A. Wetzel,
Senior Project Manager, Section 1, Project Directorate III, Division of Licensing Project Management, Office of Nuclear Reactor Regulation.

[FR Doc. 01-20992 Filed 8-20-01; 8:45 am]

BILLING CODE 7590-01-P